DEPARTMENT OF TRANSPORTATION

Federal Aviation Administration

14 CFR Part 39

[Docket No. FAA-2015-8465; Directorate Identifier 2014-NM-239-AD]

RIN 2120-AA64

Airworthiness Directives; Airbus Defense and Space S.A. (Formerly Known as Construcciones Aeronauticas, S.A.)

AGENCY: Federal Aviation Administration (FAA), DOT.

ACTION: Notice of proposed rulemaking (NPRM).

SUMMARY: We propose to supersede Airworthiness Directive (AD) 2001-12-18, for certain CASA Model CN-235 series airplanes. AD 2001-12-18 currently requires modification of the rigging of the engine control cable assembly and replacement of either the entire engine control cable assembly or a segment of the control cables. Since we issued AD 2001-12-18, we have received reports of new occurrences of cable disruption on a certain part number; the disruption is caused by microcracks along the cable surface. This proposed AD would retain the requirements of AD 2001-12-18. This proposed AD would also require repetitive replacements of each power lever and condition lever Teleflex cable with a new or serviceable part and would remove airplanes from the applicability. We are proposing this AD to prevent fatigue of the engine control cables, leading to breakage of the cables, which could result in reduced controllability of the airplane.

DATES: We must receive comments on this proposed AD by March 4, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed rule, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8465; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Branch, ANM-116, Transport Airplane Directorate, FAA, 1601 Lind Avenue SW., Renton, WA 98057-3356; telephone 425-227-1112; fax 425-227-1149.

SUPPLEMENTARY INFORMATION:

Comments Invited

We invite you to send any written relevant data, views, or arguments about this proposed AD. Send your comments to an address listed under the ADDRESSES section. Include “Docket No. FAA-2015-8465; Directorate Identifier 2014-NM-239-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 11, 2001, we issued AD 2001-12-18, Amendment 39-12274 (66 FR 33014, June 20, 2001). AD 2001-12-18 requires actions intended to address an unsafe condition on certain CASA Model CN-235 series airplanes.

Since we issued AD 2001-12-18, Amendment 39-12274 (66 FR 33014, June 20, 2001), we have received reports of new occurrences of cable disruption on part number (P/N) 72830-20; the disruption is caused by microcracks along the cable surface.

The European Aviation Safety Agency (EASA), which is the Technical Agent for the Member States of the European Union, has issued EASA Airworthiness Directive 2014-0262, dated December 5, 2014 (referred to after this as the Mandatory Continuing Airworthiness Information, or “the MCAI”), to correct an unsafe condition for certain Airbus Defense and Space S.A. Model CN-235-100 and -200 airplanes. The MCAI states:

Three occurrences of cable disruption were reported in 1999. The failed parts, having a part number (P/N) 7-44728-20, were part of the engine control system assembly P/N 7-44728-12. Two cables were connected to the Power Lever and one cable to the Condition Lever control. Service records of the affected parts showed that each cable accumulated more than 14,000 flight cycles (FC).

The subsequent investigation determined that the disruption was attributed to fatigue related crack.

This condition, if not corrected, could lead to failure of the engine control system resulting in a loss of the affected engine control.

Prompted by this unsafe condition, DGAC [Dirección General de Aviación Civil] Spain issued AD 03/00 [which corresponds to FAA AD 2001-12-18, Amendment 39-12274 (66 FR 33014, June 20, 2001] to require rigging of the throttle stops, and one-time replacement of the affected engine control cable assembly (P/N 7-44728-12), or the affected cable (P/N 7-44728-20) before exceeding 12,000 FC.

After that [DGAC Spain] AD was issued, a new occurrence of cable (P/N 72830-20) disruption was reported. In that case, the affected cable was part of the Condition Lever control and had accumulated 8,497 flight hours (FH) and 8,858 FC. Fractographic analysis of the affected cable identified that the fatigue nucleation seemed to have been induced by microcracks along the cable surface. Additionally, another case of control cable (P/N 72830-20) failure was reported, where the affected part accumulated 9,936 FH and 10,552 FC and was part of the Power Lever control. Investigation of the latter case identified again a fatigue nucleation to be the cause of the cable failure.

To address this potentially unsafe condition, Airbus Military issued Alert Operators Transmission (AOT) AOT-CN235-76-0001 to provide a repetitive replacement interval and instructions.

For the reasons described above, this [EASA] AD retains the requirements of DGAC Spain AD No. 03/00, which is superseded, but requires repetitive replacement [at reduced thresholds] of the affected Teleflex cables.

You may examine the MCAI in the AD docket on the Internet at http://www.regulations.gov by searching for and locating Docket No. FAA-2015-8465.

Related Service Information Under 1 CFR Part 51

Airbus Defense and Space S.A. has issued Airbus Military Alert Operators Transmission, dated May 27, 2014. The service information describes repetitive replacements of each power lever and condition lever Teleflex cable with a new or serviceable part. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

EASA Airworthiness Directive 2014-0262, dated December 5, 2014, specifies an applicability for Airbus Defense and Space S.A. Model CN-235-100 and -200 airplanes, serial numbers C-016 through C-073. This AD specifies an applicability for Model CN-235 airplanes, serial numbers C-001 through C-015 inclusive and serial number C-074; and Model CN-235-100 and -200 airplanes, serial numbers C-016 through C-073 inclusive. The retained one-time action in paragraph (g) of this proposed AD is also applicable to Model CN-235 airplanes, serial numbers C-001 through C-015 inclusive and serial number C-074, which are missing from EASA AD 2014-0262, dated December 5, 2014. We understand EASA considered Model CN-235 airplanes with these serial numbers that have already performed this one-time action. For this reason, Model CN-235 airplanes, serial numbers C-001 through C-015 inclusive and serial number C-074 are added to this proposed AD. This issue has been coordinated with EASA.

Costs of Compliance

We estimate that this proposed AD affects 3 airplanes of U.S. registry.

The rigging required by AD 2001-12-18, Amendment 39-12274 (66 FR 33014, June 20, 2001), and retained in this proposed AD takes about 8 work-hours per product, at an average labor rate of $85 per work-hour. Based on these figures, the estimated cost of the rigging required by AD 2001-12-18 is $680 per product.

The replacement required by AD 2001-12-18, Amendment 39-12274 (66 FR 33014, June 20, 2001), and retained in this proposed AD takes about 47 work-hours per product, at an average labor rate of $85 per work-hour. Required parts cost about $1,444 per product. Based on these figures, the estimated cost of the replacement required by AD 2001-12-18 is $5,439 per product.

We also estimate that it would take about 47 work-hours per product to comply with the basic requirements of this proposed AD. The average labor rate is $85 per work-hour. Required parts would cost about $6,480 per product. Based on these figures, we estimate the cost of this proposed AD on U.S. operators to be $31,425, or $10,475 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2001-12-18, Amendment 39-12274 (66 FR 33014, June 20, 2001) and adding the following new AD:

Airbus Defense and Space S.A. (Formerly Known as Construcciones Aeronauticas, S.A.): Docket No. FAA-2015-8465; Directorate Identifier 2014-NM-239-AD.

(a) Comments Due Date

We must receive comments by March 4, 2016.

(b) Affected ADs

This AD replaces AD 2001-12-18, Amendment 39-12274 (66 FR 33014, June 20, 2001).

(c) Applicability

This AD applies to Airbus Defense and Space S.A. (Formerly Known as Construcciones Aeronauticas, S.A.) Model CN-235 airplanes, serial numbers C-001 through C-015, inclusive and serial number C-074; and Model CN-235-100 and -200 airplanes, serial numbers C-001 through C-074, inclusive; certificated in any category.

(d) Subject

Air Transport Association (ATA) of America Code 76, Engine Controls.

(e) Reason

This AD was prompted by reports of new occurrences of cable disruption on a certain part number; the disruption is caused by microcracks along the cable surface. We are issuing this AD to prevent fatigue of the engine control cables, leading to breakage of the cables, which could result in reduced controllability of the airplane.

(f) Compliance

Comply with this AD within the compliance times specified, unless already done.

(g) Retained Action for the Power Lever and Condition Lever Control Stops, With No Changes

This paragraph restates the requirements of paragraph (a) of AD 2001-12-18, Amendment 39-12274 (66 FR 33014, June 20, 2001). Within 15 days after July 25, 2001 (the effective date of AD 2001-12-18): Rig the power lever and condition lever control stops, in accordance with CASA COM 235-140, Revision 01, dated March 21, 2000.

(h) New Requirement of This AD: Replacement

At the applicable compliance times specified in table 1 to paragraph (h) of this AD: Replace each power lever and condition lever Teleflex cable having part number (P/N) 72830-20 with a new or serviceable part, in accordance with Airbus Military Alert Operators Transmission AOT-CN235-76-0001, dated May 27, 2014. Repeat the replacement thereafter at intervals not to exceed an accumulation of 5,000 total flight cycles on each Teleflex cable having P/N 72830-20.

Table 1 to Paragraph (h) of This AD—Replacement Compliance Time
Total flight cycles accumulated on the Teleflex cable having P/N 72830-20 (since first installation on an airplane) as of the effective date of this AD | Compliance time
Fewer than 4,700 total flight cycles | Before accumulating 5,000 total flight cycles.
4,700 or more, but fewer than 6,000 total flight cycles | Within 300 flight cycles or 12 months after the effective date of this AD, whichever occurs first.
Equal to or more than 6,000 total flight cycles but fewer than 7,000 total flight cycles | Within 200 flight cycles or 6 months after the effective date of this AD, whichever occurs first.
Equal to or more than 7,000 total flight cycles | Within 100 flight cycles or 3 months after the effective date of this AD, whichever occurs first.

(i) Parts Installation Limitations

As of the effective date of this AD, no person may install, on any airplane, a Teleflex cable having P/N 72830-20, unless the cable has accumulated fewer than 5,000 total flight cycles since its first installation on an airplane.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, WA 98057-3356; telephone 425-227-1112; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or EADS CASA's EASA Design Organization Approval (DOA). If approved by the DOA, the approval must include the DOA-authorized signature.

(k) Related Information

(1) Refer to Mandatory Continuing Airworthiness Information (MCAI) EASA Airworthiness Directive 2014-0262, dated December 5, 2014, for related information. This MCAI may be found in the AD docket on the Internet at http://www.regulations.gov by searching for and locating Docket No. FAA-2015-8465.

(2) For service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. You may view this service information at the FAA, Transport Airplane Directorate, 1601 Lind Avenue SW., Renton, WA. For information on the availability of this material at the FAA, call 425-227-1221.

Issued in Renton, Washington, on December 31, 2015.
Phil Forde,
Acting Manager, Transport Airplane Directorate, Aircraft Certification Service.

[FR Doc. 2016-00377 Filed 1-15-16; 8:45 am]

BILLING CODE 4910-13-P